DEPARTMENT OF TRANSPORTATION

Federal Transit Administration

[FTA Docket No. FTA 2023-0026]

Agency Information Collection Activity Under OMB Review: Charter Service Operations

AGENCY: Federal Transit Administration, Department of Transportation.

ACTION: Notice of request for comments.

SUMMARY: In accordance with the Paperwork Reduction Act of 1995, this notice announces the intention of the Federal Transit Administration (FTA) to request the Office of Management and Budget (OMB) to approve the extension of a currently approved information collection: Charter Service Operations.

DATES: Comments must be submitted before January 16, 2024.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except Federal holidays.

FOR FURTHER INFORMATION CONTACT: Micah Miller at (404) 865-5474, or email: Micah.Miller@dot.gov.

SUPPLEMENTARY INFORMATION: Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Charter Service Operations.

OMB Number: 2132-0543.

Background: FTA's Charter Service Regulations protects private charter operators from unauthorized competition from FTA grant recipients. In essence, the charter regulations were implemented to ensure that transit agencies, subsidized with federal money, do not unfairly compete with privately owned bus companies. Under the charter rules, with limited exceptions, local transit agencies are restricted from operating chartered services.

Charter service means, but does not include demand response service to individuals:

• Transportation provided by a recipient at the request of a third party for the exclusive use of a bus or van for a negotiated price. The following features may be characteristic of charter service:

○ A third party pays the transit provider a negotiated price for the group,

○ Any fares charged to individual members of the group are collected by a third party,

○ The service is not part of the transit provider's regularly scheduled service, or is offered for a limited period of time, or

○ A third party determines the origin and destination of the trip as well as scheduling; or

• Transportation provided by a recipient to the public for events or functions that occur on an irregular basis or for a limited duration and:

○ A premium fare is charged that is greater than the usual or customary fixed route fare; or

○ The service is paid for in whole or in part by a third party.

There are limited exceptions when a grantee may provide charter service, including:

• Official government business,

• Qualified Human Service Organizations (elderly, persons with disabilities, and low-income individuals),

• When no registered charter provider responds to a notice sent by a recipient,

• Leasing (must exhaust all available vehicles first),

• By agreement with all registered charter providers,

• Petitions to the Administrator: Events of regional or national significance, or hardship.

Respondents: Transit Agencies and Private Operators.

Estimated Annual Responses: 1,810 respondents.

Estimated Total Annual Burden: 359 hours.

Frequency: Annually, bi-annually, quarterly, and as required.

Nadine Pembleton,
Deputy Associate Administrator, Office of Administration.

[FR Doc. 2023-25184 Filed 11-14-23; 8:45 am]

BILLING CODE 4910-57-P